DEPARTMENT OF AGRICULTURE

Animal and Plant Health Inspection Service

[Docket No. APHIS-2023-0038]

Notice of Request for Extension of Approval of an Information Collection; APHIS Pest Reporting and Asian Longhorn Beetle Program

AGENCY: Animal and Plant Health Inspection Service, USDA.

ACTION: Extension of approval of an information collection; comment request.

SUMMARY: In accordance with the Paperwork Reduction Act of 1995, this notice announces the Animal and Plant Health Inspection Service's (APHIS') intention to request an extension of approval of an information collection associated with the reporting of plant pests and diseases, and APHIS conducting Asian Longhorn Beetle Program activities.

DATES: We will consider all comments that we receive on or before September 18, 2023.

ADDRESSES: You may submit comments by either of the following methods:

• Federal eRulemaking Portal: Go to http://www.regulations.gov. Enter APHIS-2023-0038 in the Search field. Select the Documents tab, then select the Comment button in the list of documents.

• Postal Mail/Commercial Delivery: Please send one copy of your comment to Docket No. APHIS-2023-0038, Regulatory Analysis and Development, PPD, APHIS, Station 3A-03.8, 4700 River Road, Unit 118, Riverdale, MD 20737-1238.

Supporting documents and any comments we receive on this docket may be viewed at http://www.regulations.gov or in our reading room, which is in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on pest reporting and Asian Longhorn Beetle Program activities, contact Ms. Kathryn Bronsky, National Policy Manager, PPQ APHIS, 4700 River Road, Riverdale, MD 20737-1231; (301) 851-2147; email kathryn.e.bronsky@usda.gov. For more detailed information on the information collection process, contact Mr. Joseph Moxey, APHIS' Paperwork Reduction Act Coordinator, (301) 851-2483; email: joseph.moxey@usda.gov.

SUPPLEMENTARY INFORMATION:

Title: APHIS Pest Reporting and Asian Longhorn Beetle Program.

OMB Control Number: 0579-0311.

Type of Request: Extension of approval of an information collection.

Abstract: As authorized by the Plant Protection Act (7 U.S.C. 7701 et seq.), the Animal and Plant Health Inspection Service (APHIS), either independently or in cooperation with States, may carry out operations or measures to detect, eradicate, suppress, control, prevent, or retard the spread of plant pests and diseases that are new to or not widely distributed within the United States. This authority allows APHIS to establish control programs for a number of pests and diseases of concern, including Asian longhorned beetle and citrus greening, to name a few.

APHIS relies on various entities, such as individuals, households, businesses, and State departments of agriculture to report sightings of pests of concern or suspicious signs of pest or disease damage they may see in their local areas and provide information needed to conduct Asian Longhorned Beetle Program activities. This reporting, and the detection and verification methods involved, include information collection activities that include online pest reporting; cooperative agreements for inspection; State compliance training workshop recordkeeping; inspections and Asian longhorned beetle unified surveys; contracts for inspection; litigation and warrants and associated letters; homeowner permission or refusal to inspect and agreements for treatment, removal, and monitoring or disposal; and certificate/permit cancellation.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.13 hours per response.

Respondents: State plant health officials, business, individuals, and households.

Estimated annual number of respondents: 16,308.

Estimated annual number of responses per respondent: 40.

Estimated annual number of responses: 644,139.

Estimated total annual burden on respondents: 85,974 hours. (Due to averaging, the total annual burden hours may not equal the product of the annual number of responses multiplied by the reporting burden per response.)

All responses to this notice will be summarized and included in the request for OMB approval. All comments will also become a matter of public record.

Done in Washington, DC, this 13th day of July 2023.
Michael Watson,
Acting Administrator, Animal and Plant Health Inspection Service.

[FR Doc. 2023-15399 Filed 7-19-23; 8:45 am]

BILLING CODE 3410-34-P